ENVIRONMENTAL PROTECTION AGENCY

[ER-FRL-9055-4]

Environmental Impact Statements; Notice of Availability

Responsible Agency: Office of Federal Activities, General Information 202-564-5632 or https://www.epa.gov/nepa.

Weekly receipt of Environmental Impact Statements (EIS)

Filed February 8, 2021 10 a.m. EST Through February 22, 2021 10 a.m. EST

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20210019, Final, USA, GA, Fort Benning Heavy Off-Road Mounted Maneuver Training Area, Review Period Ends: 03/29/2021, Contact: Mr. John Brown 706-545-7549.

EIS No. 20210020, Final, USACE, CA, Prado Basin Water Conservation and Ecosystem Restoration Study, Review Period Ends: 03/29/2021, Contact: Megan Wong 213-448-4517.

EIS No. 20210021, Final Supplement, BOP, KS, Proposed Federal Correctional Institution and Federal Prison Camp Leavenworth, Kansas, Review Period Ends: 03/29/2021, Contact: Kimberly S. Hudson 202-616-2574.

EIS No. 20210022, Draft Supplement, CHSRA, CA, Bakersfield to Palmdale Project Section: Revised Draft Environmental Impact Report/Supplemental Draft Environmental Impact Statement, Comment Period Ends: 04/12/2021, Contact: Scott Rothenberg 916-403-6936.

Dated: February 22, 2021.
Cindy S. Barger,
Director, NEPA Compliance Division, Office of Federal Activities.

[FR Doc. 2021-03997 Filed 2-25-21; 8:45 am]

BILLING CODE 6560-50-P